DEPARTMENT OF AGRICULTURE

Animal and Plant Health Inspection Service

[Docket No. APHIS-2008-0142]

Availability of an Environmental Assessment for a Biological Control Agent for Yellow Starthistle

AGENCY: Animal and Plant Health Inspection Service, USDA.

ACTION: Notice of availability and request for comments.

SUMMARY: We are advising the public that the Animal and Plant Health Inspection Service has prepared an environmental assessment relative to the control of yellow starthistle, Centaurea solstitialis (Asteraceae). The environmental assessment considers the effects of, and alternatives to, the release of a weevil, Ceratapion basicorne, into the environment for use as a biological control agent to reduce the severity of yellow starthistle infestations in the continental United States. We are making the environmental assessment available to the public for review and comment.

DATES: We will consider all comments that we receive on or before April 9, 2009.

ADDRESSES: You may submit comments by either of the following methods:

• Federal eRulemaking Portal: Go to http://www.regulations.gov/fdmspublic/component/main?main=DocketDetail&d=APHIS-2008-0142 to submit or view comments and to view supporting and related materials available electronically.

• Postal Mail/Commercial Delivery: Please send two copies of your comment to Docket No. APHIS-2008-0142, Regulatory Analysis and Development, PPD, APHIS, Station 3A-03.8, 4700 River Road Unit 118, Riverdale, MD 20737-1238. Please state that your comment refers to Docket No. APHIS-2008-0142.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Carmen Soileau, Senior Entomolgist, Evaluation and Permitting of Regulated Organisms and Soil, PPQ, APHIS, 4700 River Road Unit 133, Riverdale, MD 20737-1237; (301) 734-5055.

SUPPLEMENTARY INFORMATION:

Background

The Animal and Plant Health Inspection Service (APHIS) is proposing to issue permits for release of a weevil, Ceratapion basicorne, into the environment for use as a biological control agent to reduce the severity of yellow starthistle infestations in the continental United States.

Yellow starthistle is a highly invasive weed that has become one of California's worst pests since its introduction prior to 1860. Since then, it has been reported in 41 of the 48 contiguous U.S. States, with the heaviest infestations in the States of California, Idaho, Oregon, and Washington. Yellow starthistle infests grassland habitats and displaces desirable plants in both natural and grazing areas. Its flowers have inch-long spines that deter feeding by and cause injury to grazing animals and lower the utility of recreational lands. Although consumption of yellow starthistle by grazing animals is rare, consumption by horses is toxic. Continued feeding causes ulcers in the mouth and results in brain lesions that cause a fatal syndrome known as “chewing disease” or nigropallidal encephalomalacia.

There are currently several control methods for yellow starthistle, including herbicides, mowing, timed grazing, prescribed burns, and other methods. However, these control methods have proven to be ineffective. Therefore, APHIS is proposing to issue permits for the release of a weevil, Ceratapion basicorne, into the environment for use as a biological control agent to reduce the severity of yellow starthistle infestations in the continental United States.

The proposed biological control agent, C. basicorne, is native to Europe and southwestern Asia. The weevil has a wide tolerance to climate and is therefore expected to become established throughout the range of yellow starthistle if released in the United States. Female C. basicorne lay their eggs in the yellow starthistle leaves from late March to early May. The eggs hatch after approximately 10 days. The larvae then mine in the leaf blade and down the leaf stalk. During the following 2 months, the larvae feed in the root crown while they develop. Adults emerge in June, feed on the yellow starthistle leaves for a few days, and then disappear. Field impact studies in California show that plants infested with C. basicorne have slower growth rates and decreased seed production compared to uninfested plants.

Host specificity tests indicate that no plant species outside the subtribe Centaureinae are at risk of larval damage. The closest native species to yellow starthistle are C. americana and C. rothrockii, but they were not able to maintain larval development of C. basicorne. Test results also indicate that there may be low attack and larval damage to C. melitensis, Crupino vulgaris, Cnicus benedictus, and C. cyanus, but risk of attack was not measured in specificity experiments because there is no interest to protect these invasive species in North America. Based on these results, release of C. basicorne in the continental United States is not expected to have any negative cumulative impacts.

APHIS' review and analysis of the potential environmental impacts associated with the proposed action are documented in detail in an environmental assessment (EA) entitled “Field Release of Ceratapion basicorne (Coleotera: Apionidae), a Weevil for Biological Control of Yellow Starthistle (Centaurea solstitialis), in the Continental United States” (October 2008). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 4th day of March 2009.
Kevin Shea,
Acting Administrator, Animal and Plant Health Inspection Service.

[FR Doc. E9-5052 Filed 3-9-09; 8:45 am]

BILLING CODE 3410-34-P